DEPARTMENT OF ENERGY

Federal Energy Regulatory Commission

[Project No.: 7528-009]

Public Service Company of New Hampshire; Notice of Application Tendered for Filing With the Commission and Establishing Procedural Schedule for Licensing and Deadline for Submission of Final Amendments

August 10, 2007.

Take notice that the following hydroelectric application has been filed with the Commission and is available for public inspection.

a. Type of Application: Subsequent License.

b. Project No.: 7528-009.

c. Date Filed: July 30, 2007.

d. Applicant: Public Service Company of New Hampshire.

e. Name of Project: Canaan Hydroelectric Project.

f. Location: The project is located on the northern Connecticut River in Coos County, New Hampshire and Essex County, Vermont. The project does not occupy United States land.

g. Filed Pursuant to: Federal Power Act 16 U.S.C. 791 (a)-825(r).

h. Applicant Contact: James K. Kerns, Project Manager, Public Service Company of New Hampshire, 780 North Commercial Street, Manchester, NH 03101 (603) 634-2936.

i. FERC Contact: Kristen Murphy (202) 502-6236 or kristen.murphy@ferc.gov.

j. This application is not ready for environmental analysis at this time.

k. The existing project consist of: (1) A 275-foot-long, 14.5-foot-high concrete gravity dam with a spillway equipped with 3.5-foot-high wooden flashboards, utilized year-round; (2) a 20-acre reservoir with a gross storage capacity of approximately 200 acre-feet; (3) an intake structure with a 12.5-foot-wide, 12-foot-high timber gate leading to; (4) a 1,360-foot-long, 9-foot-diameter wood stave penstock; (5) two 21.3-foot-high, 15.3-foot-diameter steel surge tanks; (6) a powerhouse with one generating unit with an installed capacity of 1,100 kW; and (8) appurtenant facilities. The estimated average annual generation of the project is 7,300 megawatt-hours.

The project is voluntarily operated in a run-of-river mode. Further, a total minimum flow of 136 cfs or inflow, whichever is less, is released downstream of the dam, with 50 cfs released through the 1,600-foot-long bypassed reach and the remaining 86 cfs released through the project turbine. As proposed, the project would continue to be operated in a run-of-river mode. Further, a total minimum flow of 165 cfs or inflow, whichever is less, would be released downstream of the project dam through the bypassed reach.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/esubscribenow.asp to be notified via email of new filings and issuances related to this or other pending projects. For assistance, contact FERC Online Support.

n. Procedural Schedule: The application will be processed according to the following Hydro Licensing Schedule. The Commission staff proposes to issue a single Environmental Assessment (EA) rather than issuing a draft and final EA. The schedule allows 30 days for entities to comment on the EA, and 60 days for agencies to file modified mandatory terms and conditions. Staff will take into consideration all comments and terms and conditions received on the EA before final action is taken on the license application. Revisions to the schedule may be made as appropriate.

Milestone | Target date
Notice of Acceptance and Ready for Environmental Analysis | September 28, 2007.
Filing interventions, comments, recommendations, preliminary terms and conditions, and fishway prescriptions | November 27, 2007.
Notice of availability of the EA | March 26, 2008.
Filing comments on EA | April 25, 2008.
Filing modified terms and conditions | June 24, 2008.

o. Final amendments to the application must be filed with the Commission no later than 30 days from the issuance date of the notice of ready for environmental analysis.

Kimberly D. Bose,
Secretary.

[FR Doc. E7-16250 Filed 8-17-07; 8:45 am]

BILLING CODE 6717-01-P